DEPARTMENT OF THE INTERIOR

Bureau of Reclamation

[RR83550000, 234R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary maintenance

EXM Emergency extraordinary maintenance

FR Federal Register

IDD Irrigation and Drainage District

ID Irrigation District

M&I Municipal and industrial

O&M Operation and maintenance

OM&R Operation, maintenance, and replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

Discontinued contract action:

30. H&RW ID; Frenchman-Cambridge Division, P-SMBP; Nebraska: Consideration of a water service contract.

Completed contract actions:

28. Glen Elder ID; Glen Elder Unit, P-SMBP; Kansas: Consideration of a repayment contract for XM funded pursuant to Title X, Subtitle G of Public Law 111-11. Contract executed on September 9, 2022.

32. Bluff ID; Boysen Unit, P-SMBP; Wyoming: Consideration of a new long-term water service contract for irrigation purposes. Contract executed on July 5, 2022.

34. Shoshone Municipal Pipeline, Shoshone Project, Wyoming: Consideration for renewal of water service contract No. 1-07-60-W0703. Contract executed on August 17, 2022.

35. Slagle, Gayle and Joyce; Canyon Ferry Unit, P-SMBP; Montana: Consideration for a new long-term water service contract for irrigation purposes. Contract executed on August 1, 2022.

Upper Colorado Basin—Interior Region 7: Bureau of Reclamation, 125 South State Street, Room 8100, Salt Lake City, Utah 84138-1102, telephone 801-524-3864.

Modified contract action:

3. Middle Rio Grande Project, New Mexico: Reclamation will continue annual leasing of water from various San Juan-Chama Project contractors in 2022 to stabilize flows in a critical reach of the Rio Grande to meet the needs of irrigators and preserve habitat for the silvery minnow. Reclamation leased approximately 8,245 acre-feet of water from San Juan-Chama Project contractors in 2021. Contracts with the City of Santa Fe and the Town of Red River were executed. An additional 700 acre-feet lease is nearly complete with the City of Espanola.

Lower Colorado Basin—Interior Region 8: Bureau of Reclamation, P.O. Box 61470 (Nevada Highway and Park Street), Boulder City, Nevada 89006-1470, telephone 702-293-8192.

Completed contract action:

19. Cibola Valley Irrigation and Drainage District (CVIDD) and The Cibola Sportsman's Club, Inc., Alfred F. and Emma Jean Bishop Family Trust, and Bruce and Lora Cathcart and James and Aria Cathcart (Beneficiaries) BCP, Arizona: Enter into a proposed partial assignment and transfer of Arizona fourth-priority Colorado River water in the amount of 762 acre-feet per year from CVIDD to be divided amongst the Beneficiaries. Amend CVIDD's Colorado River water delivery contract No. 2-07-30-W0028 to decrease its Colorado River water entitlement from 8,204.52 to 7,442.52 acre-feet per year. Enter into Colorado River water delivery contracts for Arizona fourth-priority Colorado River water entitlements under contract No. 21-XX-30-W0717 with The Cibola Sportsman's Club, Inc. for 216 acre-feet per year, contract No. 21-XX-30-W0718 with Alfred F. and Erma Jean Bishop Family Trust for 420 acre-feet per year, and contract No. 21-XX-30-W0719 with Bruce and Lora Cathcart and James and Maria Cathcart for 126 acre-feet per year. Contract executed on September 12, 2022.

Columbia-Pacific Northwest—Interior Region 9: Bureau of Reclamation, 1150 North Curtis Road, Suite 100, Boise, Idaho 83706-1234, telephone 208-378-5344.

Discontinued contract action:

5. Nine water user entities of the Arrowrock Division, Boise Project, Idaho: Repayment agreements with districts with spaceholder contracts for repayment, per legislation, of the reimbursable share of costs to rehabilitate Arrowrock Dam Outlet Gates under the O&M program.

Completed contract actions:

8. Benton ID, Yakima Project, Washington: Replacement contract to, among other things, withdraw Benton ID from the Sunnyside Division Board of Control; provide for direct payment of Benton ID's share of total operation, maintenance, repair, and replacement costs incurred by the United States in operation of storage division; and establish Benton ID responsibility for operation, maintenance, repair, and replacement for irrigation distribution system. Contract executed on April 7, 2021.

14. Quincy-Columbia Basin ID, Columbia Basin Project, Washington: Long-term contract to renew master water service contract No. 14-06-100-9166, as supplemented, to authorize the District to deliver project water to up to 10,000 First Phase Continuation Acres located within the District, and to deliver additional project water to land irrigated under the District's repayment contract during the peak period of irrigation water use annually. Contract executed on October 7, 2021.

California-Great Basin—Interior Region 10: Bureau of Reclamation, 2800 Cottage Way, Sacramento, California 95825-1898, telephone 916-978-5250.

New contract actions:

49. San Luis Canal Company, Central California ID, Firebaugh Canal Water District, Columbia Canal Company (collectively San Joaquin River Exchange Contractors), CVP, California: Amend 1968 Second Amended Contract for Exchange of Waters.

Modified contract actions:

9. Tuolumne Utilities District (formerly Tuolumne Regional WD), CVP, California: Long-term water service contract for up to 6,000 acre-feet from New Melones Reservoir, and possibly a long-term contract for storage of non-project water in New Melones Reservoir.

11. San Luis WD, CVP, California: Proposed partial assignment of 4,449 acre-feet of the District's CVP supply to Santa Nella County WD for M&I use.

Discontinued contract action:

4. Redwood Valley County WD, SRPA, California: Restructuring the repayment schedule pursuant to Public Law 100-516.

Christopher Beardsley,
Director, Policy and Programs.

[FR Doc. 2022-27431 Filed 12-16-22; 8:45 am]

BILLING CODE 4332-90-P